DEPARTMENT OF TRANSPORTATION

Federal Aviation Administration

14 CFR Part 71

[Airspace Docket No. 00-ASO-38]

Amendment of Class E3 Airspace; Tallahassee, FL, and Class E4 Airspace; Dothan, AL; Vero Beach, FL; Athens, GA; Columbus Lawson AAF, GA; Meridian/Key Field, MS; Meridian NAS-McCain Field, MS; and Florence, SC

AGENCY: Federal Aviation Administration (FAA), DOT.

ACTION: Final rule.

SUMMARY: This action amends Class E3 airspace at Tallahassee, FL, and Class E4 airspace at Dothan, AL; Vero Beach, FL; Athens, GA; Columbus Lawson AAF, GA; Meridian/Key Field, MS; and Florence, SC, from continuous to part time, as the air traffic control towers at these locations are now part time.

EFFECTIVE DATE: 0901 UTC, January 25, 2001.

FOR FURTHER INFORMATION CONTACT: Nancy B. Shelton, Manager, Airspace Branch, Air Traffic Division, Federal Aviation Administration, P.O. Box 20636, Atlanta, GA 30320; telephone (404) 305-5586.

SUPPLEMENTARY INFORMATION:

History

The air traffic control towers at Tallahassee Regional Airport, FL; Dothan Regional Airport, AL; Vero Beach Municipal Airport, FL; Athens/Ben Epps Airport, GA; Columbus Lawson AAF, GA; Meridian/Key Field, MS; and Florence, SC, no longer operate continuously. Therefore, the Class E3 airspace at Tallahassee, FL, and the Class E4 airspace at Dothan, AL; Vero Beach, FL; Athens, GA; Columbus Lawson AAF, GA; Meridian/Key Field, MS; and Florence, SC, must be amended from continuous to part time. This rule will become effective on the date specified in the EFFECTIVE DATE section. Since this action eliminates the impact of controlled airspace on users of the airspace in the vicinity of the Airports during the hours the control towers are closed, notice and public procedure under 5 U.S.C. 553(b) are unnecessary. Class E3 airspace designations for airspace areas designated as an extension and Class E4 airspace designations for airspace areas designated as an extension to a Class D airspace area are published in paragraphs 6003 and 6004 respectively of FAA Order 7400.9H, dated September 1, 2000, and effective September 16, 2000, which is incorporated by reference in 14 CFR 71.1. The Class E airspace designations listed in this document will be published subsequently in the Order.

The Rule

This amendment to Part 71 of the Federal Aviation Regulations (14 CFR Part 71) amends Class E3 airspace at Tallahassee, FL, and Class E4 airspace at Dothan, AL; Vero Beach, FL; Athens, GA; Columbus Lawson AAF, GA; Meridian/Key Field, MS; and Florence, SC.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows:

Paragraph 6003 Class E3 Airspace Areas Designated as an Extension.

* * * * *

ASO FL E3 Tallahassee, FL [Revised]

Tallahassee Regional Airport, FL

(Lat 30°23′47″ N, long. 84°21′01″ W)

Seminole VORTAC

(Lat 30°33′22″ N, long. 84°22′26″ W)

That airspace extending upward from the surface within 1.3 miles each side of the Seminole VORTAC 175° radial extending from the 5-mile radius of the Tallahassee Regional Airport to 2 miles south of the VORTAC. This Class E airspace area is effective during the specific days and times established in advance by a Notice to Airmen. The effective days and times will thereafter be continuously published in the Airport/Facility Directory.

* * * * *

Paragraph 6004 Class E4 Airspace Areas Designated as an Extension to a Class D Airspace Area.

* * * * *

ASO AL E4 Dothan, AL [Revised]

Dothan Regional Airport, AL

(Lat. 31°19′17″ N, long. 85°26′59″ W)

Wiregrass VORTAC

(Lat. 31°17′04″ N, long. 85°25′53″ W)

That airspace extending upward from the surface within 3.2 miles each side of the Wiregrass VORTAC 156° radial extending from the 4.7-mile radius of the Dothan Regional Airport to 7 miles southeast of the VORTAC. This Class E airspace area is effective during the specific days and times established in advance by a Notice to Airmen. The effective days and times will thereafter be continuously published in the Airport/Facility Directory.

* * * * *

ASO FL E4 Vero Beach, FL [Revised]

Vero Beach Municipal Airport, FL

(Lat. 27°39′20″ N, long. 80°25′05″ W)

Vero Beach NDB

(Lat 27°39′51″ N long. 80°25′10″ W)

That airspace extending upward from the surface within 3.2 miles each side of the 261° bearing from the Vero Beach NDB extending from the 4.2-mile radius of the Vero Beach Municipal Airport to 7 miles west of the NDB. This Class E airspace area is effective during the specific days and times established in advance by a Notice to Airmen. The effective days and times will thereafter be continuously published in the Airport/Facility Directory.

* * * * *

ASO GA E4 Athens, GA [Revised]

Athens/Ben Epps Airport, Athens, GA

(Lat. 33°56′54″ N, long. 83°19′36″ W)

Athens VORTAC

(Lat. 33°56′51″ N, long. 83°19′36″ W)

That airspace extending upward from the surface within 3 miles each side of the Athens VORTAC 195° radial extending from the 4-mile radius of the Athens/Ben Epps Airport to 7 miles south of the VORTAC, and within 3 miles each side of the Athens VORTAC 076° radial extending from the 4-mile radius of the airport to 7 miles east of the VORTAC. This Class E airspace area is effective during the specific days and times established in advance by a Notice to Airmen. The effective days and times will thereafter be continuously published in the Airport/Facility Directory.

* * * * *

ASO GA E4 Columbus Lawson AAF, GA [Revised]

Columbus Lawson AAF, GA

(Lat. 32°20′17″ N, long. 84°59′32″ W)

Lawson VOR/DME

(Lat. 32°19′57″ N, long. 84°59′36″ W)

Lawson NDB

(Lat. 32°17′36″ N, long. 85°01′24″ W)

That airspace extending upward from the surface within 1.2 miles each side of the Lawson VOR/DME 214° radial extending from the 4.2-mile radius of Lawson AAF to 6 miles southwest of the NDB. This Class E airspace area is effective during the specific days and times established in advance by a Notice to Airmen. The effective days and times will thereafter be continuously published in the Airport/Facility Directory.

* * * * *

ASO MS E4 Meridian/Key Field, MS [Revised]

Meridian/Key Field, MS

(Lat. 32°20′00″ N, long. 88°45′04″ W)

Meridian VORTAC

(Lat. 32°22′43″ N long. 88°48′15″ W)

That airspace extending upward from the surface within 2.5 miles each side of the Meridian VORTAC 315° radial extending from the 5.3-mile radius of Meridian/Key Field to 7 miles northwest of the VORTAC. This Class E airspace area is effective during the specific days and times established in advance by a Notice to Airmen. The effective days and times will thereafter be continuously published in the Airport/Facility Directory.

* * * * *

ASO SC E4 Florence, SC [Revised]

Florence Regional Airport, SC

(Lat. 34°11′08″ N, long. 79°43′26″ W)

Florence VORTAC

(Lat. 34°13′59″ N, long. 79°39′26″ W)

That airspace extending upward from the surface within 2.4 miles each side of the Florence VORTAC 049° radial extending from the 4.2-mile radius of the Florence Regional Airport to 7 miles northeast of the VORTAC. This Class E airspace area is effective during the specific days and times established in advance by a Notice to Airmen. The effective days and times will thereafter be continuously published in the Airport/Facility Directory.

* * * * *

Issued in College Park, Georgia, on November 1, 2000.
Wade T. Carpenter,
Acting Manager, Air Traffic Division, Southern Region.

[FR Doc. 00-28991 Filed 11-9-00; 8:45 am]

BILLING CODE 4910-13-M